NATIONAL SCIENCE FOUNDATION

Special Emphasis Panel in Experimental and Integrative Activities; Notice of Meeting

In accordance with the Federal Advisory Committee Act (Pub. L. 920463, as amended), the National Science Foundation announces the following meeting.

Name: Special Emphasis Panel in Experimental and Integrative Activities (1193).

Date/Time: September 21, 2000; 8:30 am-6:30 pm.

Place: National Science Foundation, 4201 Wilson Blvd., Room 320, Arlington, VA.

Contact Persons: James J. Hickman, Special Advisory to EIA/CISE Director, Room 1160, and Frederica Darema, Senior Science and Technology Advisor: CISE/EIA Room 1155, both at National Science Foundation, 4201 Wilson Boulevard, Arlington, VA 22230. Telephone (703) 292-8980.

Type of Meeting: Open.

Minutes: Maybe obtained from the contact person listed above.

Purpose of Meeting: To provide advice and recommendations to NSF personnel regarding the scope and substance of the field of biological computing.

Agenda: Series of presentations to educate NSF personnel on the state-of-the-art in biological computation and have discussions on future directions in research activity.

Dated: August 23, 2000.
Karen J. York,
Committee Management Officer.

[FR Doc. 00-21941 Filed 8-29-00; 8:45 am]

BILLING CODE 7555-01-M